DEPARTMENT OF COMMERCE

National Oceanic and Atmospheric Administration

RIN 0648-XE352

National Saltwater Angler Registry Program

AGENCY: National Marine Fisheries Service (NMFS), National Oceanic and Atmospheric Administration (NOAA), Commerce.

ACTION: Notice.

SUMMARY: NMFS has established an annual fee of twenty-nine dollars ($29.00) for registration of anglers, spear fishers and for-hire fishing vessels to register under the National Saltwater Angler Registry Program.

DATES: The registration fee will be required effective January 1, 2016.

ADDRESSES: Gordon C. Colvin, NMFS ST-12453, 1315 East-West Highway, Silver Spring, MD 20910.

FOR FURTHER INFORMATION CONTACT: Gordon C. Colvin; (240) 357-4524; email: Gordon.Colvin@noaa.gov.

SUPPLEMENTARY INFORMATION: The final rule implementing the National Saltwater Angler Registry Program, 50 CFR 600, subpart P, was published in the Federal Register on December 30, 2008. The final rule states that persons registering with NMFS must pay an annual fee effective January 1, 2011, and that NMFS will publish the annual schedule for such fees in the Federal Register. The current annual fee for registration was set at $25.00, effective August 1, 2013. NMFS policy requires that fees be reviewed every two years and be revised to reflect changes in estimated costs for administration of the program that requires the fees.

NMFS has completed its biennial review and has determined that the annual registration fee for anglers, spear fishers and for-hire fishing vessels will be raised to twenty-nine dollars ($29.00). All persons registering on or after January 1, 2016, will be required to pay that registration fee, unless they are exempt as indigenous people per the provisions of 50 CFR 600.1410(f).

Dated: December 11, 2015.
Samuel D. Rauch III,
Deputy Assistant Administrator for Regulatory Programs, National Marine Fisheries Service.

[FR Doc. 2015-31776 Filed 12-17-15; 8:45 am]

BILLING CODE 3510-22-P